DEPARTMENT OF LABOR

Employment and Training Administration

[TA-W-42,140]

SPX Valves & Controls Division Sartell, Minnesota; Notice of Termination of Investigation

Pursuant to section 221 of the Trade Act of 1974, an investigation was initiated on September 16, 2002, in response to a filed on behalf of workers SPX, Valves & Controls Division, Sartell, Minnesota.

The petitioning group of workers are under a current certification which was issued on January 15, 2003 (TA-W-50,298). Consequently, further investigation in this case would serve no purpose, and the investigation has been terminated.

Signed in Washington, DC, this 23rd day of January, 2003.
Linda G. Poole,
Certifying Officer, Division of Trade Adjustment Assistance.

[FR Doc. 03-2845 Filed 2-5-03; 8:45 am]

BILLING CODE 4510-30-P